BUREAU OF CONSUMER FINANCIAL PROTECTION

[Docket CFPB-2012-0018]

Request for Information Regarding Senior Financial Exploitation

AGENCY: Bureau of Consumer Financial Protection.

ACTION: Request for Information.

SUMMARY: Section 1013(g)(1) of the Dodd-Frank Wall Street Reform and Consumer Protection Act of 2010 (“Dodd-Frank Act”) requires the Bureau of Consumer Financial Protection (“Bureau” or “CFPB”) to facilitate the financial literacy of individuals aged 62 or older (“seniors”), on protection from unfair, deceptive, and abusive practices and on current and future financial choices, including through dissemination of materials on such topics.

In furtherance of this mandate, the CFPB's Office for the Financial Protection of Older Americans (“Office for Older Americans”) seeks information on consumer financial products and services, financial literacy efforts, and fraudulent or deceptive practices impacting the lives of older Americans and their families.

DATES: Comment Due Date: August 20, 2012.

ADDRESSES: You may submit comments, identified by Docket No. CFPB-2012-0018, by any of the following methods:

• http://www.regulations.gov. Follow the instructions for submitting comments.

• Mail/Hand Delivery/Courier: Monica Jackson, Office of the Executive Secretary, Consumer Financial Protection Bureau, 1700 G Street NW., Washington, DC 20552.

Instructions: The CFPB encourages the early submission of comments. All submissions must include the document title and docket number. Please note the number of the question to which you are responding at the top of each response (respondents need not answer each question). In general, all comments received will be posted without change to http://www.regulations.gov. In addition, comments will be available for public inspection and copying at 1700 G Street NW., Washington, DC 20552, on official business days between the hours of 10:00 a.m. and 5:00 p.m. Eastern Time. You can make an appointment to inspect the documents by telephoning 202-435-7275. All comments, including attachments and other supporting materials, will become part of the public record and subject to public disclosure. Sensitive personal information such as account numbers or Social Security numbers should not be included. Comments will not be edited to remove any identifying or contact information.

FOR FURTHER INFORMATION CONTACT: For general inquiries, submission process questions or any additional information, please call Monica Jackson at 202-435-7275. For specific questions on senior financial exploitation, please call James Miner at 202-435-7953.

SUPPLEMENTARY INFORMATION: In support of its statutory mandates under Section 1013(g)(1) and (3) of the Dodd-Frank Act, the Office for Older Americans will monitor certifications or designations of financial advisors who serve seniors and alert the SEC and state regulators of certifications or designations that are identified as unfair, deceptive or abusive. The Office for Older Americans will also make legislative and regulatory recommendations to Congress on best practices for disseminating information to seniors regarding the legitimacy of certifications and designations, and methods through which a senior can identify the financial advisor most appropriate for the senior's needs.

Pursuant to Section 1013(g)(3)(D), the Office for Older Americans is also conducting research to identify best practices for educating seniors on personal finance management. The office for Older Americans intends to use this research to develop goals for programs that provide financial literacy and counseling to seniors.

The Bureau is therefore seeking comments in response to the questions posed below. The questions are grouped into the following categories: (a) Evaluation of senior financial advisor certifications and designations; (b) providing financial advice and planning information to seniors; (c) senior certification and designation information sources; (d) financial literacy efforts; and (e) financial exploitation of older Americans, including veterans of the Armed Forces. Please feel free to respond to any or all of the questions but please be sure to indicate in your comments on which questions you are commenting.

Please note that the Bureau is not soliciting individual borrower complaints in response to this Notice and Request for Information. Nor is the Bureau seeking personally identifying information regarding borrower complaints, from the parties to the complaint or any third party. Responses to this subsection should not contain account numbers, Social Security numbers or other personal information that could be used to identify the complainant or another party identified in a complaint, or in any way otherwise reveal personally identifiable information.

Evaluation of Senior Financial Advisor Certifications and Designations

1. What resources do seniors have for determining the legitimacy, value, and authenticity of credentials held by their financial advisors and planners? What sources have been found most helpful, accurate, and thorough? Among other things, comments could address issues such as state or organizational level review standards, evaluation practices, or selection criteria to determine the validity of proposed senior certifications or designations.

2. How effective are the existing sources at maintaining the legitimacy, value, and authenticity of credentials held by senior financial advisors and planners?

3. How effectively do existing accountability controls deter the misuse of senior advisor credentials? Examples of accountability controls include revoking credentials, public notices of disapproval, or other disciplinary actions.

Providing Financial Advice and Planning Information to Seniors

4. What resources are available to explain the subject matter expertise presented or implied by specific certifications and designations? How effective are the publicly available sources at disseminating thorough, up-to-date information? How effectively are seniors able to use the available resources to select a financial advisor with appropriate knowledge to address their specific financial needs?

Senior Certification and Designation Information Sources

5. What sources of information on the fraudulent or misleading uses of senior certifications and designations are available? Comments could include, among other things, references to publicly available research or data sets, suggestions for other potentially available research or data, or other information on enforcement, civil, administrative, or criminal cases.

Financial Literacy Efforts

6. What financial education, counseling, or personal finance management programs are tailored to the unique financial needs of older Americans and their families or caregivers? Among these programs, what are the best practices in providing seniors financial literacy and robust, practical information on personal finance management? Possible comments could address methods for improving recognition of unfair or deceptive financial practices; means for helping seniors plan for retirement, long-term care, and economic security; or approaches to consumer credit counseling and other financial literacy or financial protection practices.

Financial Exploitation of Older Americans

7. What types of fraudulent, unfair, abusive or deceptive practices target Americans age 62 and over? Comments could include unique types of financial exploitation or additional information concerning the examples listed below.

a. Power of Attorney or Guardian Abuse, whereby an agent under power of attorney or a court-appointed guardian uses his/her fiduciary authority (or a forged power of attorney instrument) to misappropriate the older person's assets and uses them for personal gain rather than for the support of the incapacitated older person; and

b. Affinity fraud, in which the characteristics of a trusted advisor such as a member of the clergy or government official are impersonated by those attempting to extract payments or personal information from an older person.

Financial Exploitation of Older Veterans of the Armed Forces

8. What types of fraudulent or deceptive practices target older veterans and/or military retirees? Comments could include unique examples of financial exploitation or additional information concerning the examples listed below.

a. VA Aid and Attendance fraud, whereby veterans are advised to transfer retirement funds into irrevocable trusts that cause them to lose access to the funds and also become ineligible for Medicaid benefits; or,

b. Military pension buyout schemes, in which veterans are offered cash payments in return for their military pension payouts in a manner that could ultimately deprive the veteran of the majority of his or her pension.

Dated: April 27, 2012.
Meredith Fuchs,
Chief of Staff, Bureau of Consumer Financial Protection.

[FR Doc. 2012-14854 Filed 6-18-12; 8:45 am]

BILLING CODE 4810-AM-P